FEDERAL FINANCIAL INSTITUTIONS EXAMINATION COUNCIL

Appraisal Subcommittee

Information Collection Activities Under OMB Review

AGENCY: Appraisal Subcommittee, Federal Financial Institutions Examination Council.

ACTION: Notice of information collection extension submitted to OMB for review under the Paperwork Reduction Act of 1980.

SUMMARY: In accordance with the Paperwork Reduction Act of 1980 (44 U.S.C. chapter 35), the Appraisal Subcommittee of the Federal Financial Institutions Examination Council (“ASC”) has sent to the Office of Management and Budget (“OMB”) for review the following information collection.

DATES: Comments on this information collection must be received on or before January 9, 2003.

ADDRESSES: Send comments to Ben Henson, Executive Director, Appraisal Subcommittee, 2000 K Street, NW., Suite 310, Washington, DC 20006; and Joseph F. Lackey, Jr., Clearance Officer, Office of Management and Budget, New Executive Office Building, Room 10235, Washington, DC 20503.

FOR FURTHER INFORMATION CONTACT: Marc L. Weinberg, General Counsel, Appraisal Subcommittee, 2000 K Street, NW., Suite 310, Washington, DC 20006, from whom copies of the information collection and supporting documents are available.

SUPPLEMENTARY INFORMATION:

Title: 12 CFR Part 1102, Subpart B; Rules of Practice for Proceedings.

Type of Review: Regular submission.

Summary and Need: Procedures for ASC non-recognition and “further action” proceedings against State appraiser regulatory agencies and other persons under § 1118 of Title XI of the Financial Institutions Reform, Recovery, and Enforcement Act of 1989 (12 U.S.C. 3347).

Form Number: None.

OMB Number: 3139-0005.

Affect Public: State, local or tribal government.

Number of Responses: 2 responses.

Average Hours Per Responses: 60 hours.

Total Annual Burden Hours: 120 hours.

By the Appraisal Subcommittee of the Federal Financial institutions Examination Council.
Dated: December 4, 2002.
Ben Henson,
Executive Director.

[FR Doc. 02-31079 Filed 12-9-02; 8:45 am]

BILLING CODE 6700-01-M